DEPARTMENT OF AGRICULTURE

Submission for OMB Review; Comment Request

March 28, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC. 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Farm Service Agency

Title: 7 CFR 1951-T Disaster Set-aside Program.

OMB Control Number: 0560-0164.

Summary of Collection: The Disaster Set-Aside Program (DSA) is made available through the authority granted the Secretary of Agriculture under Section 331A of the Consolidated Farm and Rural Development Act (CONACT). The set-aside program is designed to assist borrowers in financial distress that operated a farm or ranch in a political subdivision, typically a county that was declared or designated a disaster area. DSA allows eligible borrowers who are unable to make the payments to quickly eliminate their immediate financial stress. Under this program, Farm Service Agency (FSA) farm loan program borrowers can receive immediate financial relief by moving one annual installment for each loan to the end of the loan term. FSA will collect information on the borrowers asset values, expenses and income.

Need and Use of the Information: The information is required of FSA farm borrowers and collected by FSA loan servicing officials to determine that disaster victims need payment relief and to support the approval of a set-aside request. Failure to obtain the documentation at the time of the request for DSA will result in rejection of the borrower's request.

Description of Respondents: Farms; Individuals or households; Business or other for-profit.

Number of Respondents: 800.

Frequency of Responses: Reporting: On occasion; Annually.

Total Burden Hours: 2,000.

Ruth Brown,
Departmental Information Collection Clearance Officer.

[FR Doc. E6-4750 Filed 3-31-06; 8:45 am]

BILLING CODE 3410-05-P